NATIONAL FOUNDATION ON THE ARTS AND THE HUMANITIES

National Endowment for the Arts

Tribal Consultation Policy

AGENCY: National Endowment for the Arts, National Foundation on the Arts and the Humanities.

ACTION: Notice.

SUMMARY: The National Endowment for the Arts (NEA) is an independent federal agency whose funding helps to support cultural programs nationwide. Established in 1965, the NEA's budget appropriation in FY21 was $167.5 million, which is utilized in the form of project and partnership grants, special initiatives, and honorific fellowships to support arts learning, affirm and celebrate America's rich and diverse cultural heritage, and to extend and promote equal access to the arts in every community.

FOR FURTHER INFORMATION CONTACT: Clifford Murphy, Director of Folk & Traditional Arts, phone: 202-682-5726, or by email to murphyc@arts.gov or NativeArts@arts.gov.

SUPPLEMENTARY INFORMATION: In response to President Biden's January 26, 2021 Memorandum on Tribal Consultation and Strengthening Nation-to-Nation Relationships (https://www.whitehouse.gov/briefing-room/presidential-actions/2021/01/26/memorandum-on-tribal-consultation-and-strengthening-nation-to-nation-relationships/), the National Endowment for the Arts is pleased to share its Tribal Consultation Policy (https://www.arts.gov/sites/default/files/Tribal%20Consultation%20Policy%20NEA%202021%20Final.pdf).

The policy is in keeping with the NEA draft Plan of Action for Tribal Consultation (https://www.arts.gov/sites/default/files/NEA-Tribal-Consultation-Plan-of-Action-4.26.21.pdf), which was informed by a tribal consultation call on April 7, 2021, and was informed by ongoing agency engagement with Native artists, organizations, and cultural leaders. A draft consultation policy was formally reviewed in consultation with tribal leaders on August 10, 2021 (summary: https://www.arts.gov/sites/default/files/NEA-August-2021-Tribal-Consultation-Summary-9.9.21.pdf).

Dated: October 22, 2021.
Meghan Jugder,
Support Services Specialist, Office of Administrative Services & Contracts, National Endowment for the Arts.

[FR Doc. 2021-23430 Filed 10-27-21; 8:45 am]

BILLING CODE 7537-01-P